DEPARTMENT OF STATE

[Public Notice 4029]

Culturally Significant Objects Imported for Exhibition Determinations: “Michael Sweerts (1618-1664)”

DEPARTMENT: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that certain of the objects to be included in the exhibition “Michael Sweerts (1618-1664),” imported from abroad for temporary exhibition within the United States, are of cultural significance. These objects are imported pursuant to loan agreements with the foreign owners. I also determine that the exhibition or display of these exhibit objects at the Fine Arts Museums of San Francisco, San Francisco, CA, from on or about June 15, 2002, to on or about August 25, 2002, at the Wadsworth Atheneum Museum of Art, Hartford, CT, from on or about September 19, 2002, to on or about December 1, 2002, and at possible additional venues yet to be determined, is in the national interest. Public Notice of these Determinations is ordered to be published in the Federal Register.

FOR FURTHER INFORMATION CONTACT: For further information, including a list of the exhibit objects, contact Julianne Simpson, Attorney-Adviser, Office of the Legal Adviser, U.S. Department of State, (telephone: 202/619-6529). The address is U.S. Department of State, SA-44, 301 4th Street, SW., Room 700, Washington, DC 20547-0001.

Dated: May 16, 2002.
Stephen T. Hart,
Acting Assistant Secretary for Educational and Cultural Affairs, Department of State.

[FR Doc. 02-13002 Filed 5-22-02; 8:45 am]

BILLING CODE 4710-08-P